DEPARTMENT OF LABOR

Employment and Training Administration

[TA-W-65,019]

Delphi Corporation, Corporate Headquarters, and Product & Service Solutions Division Including On-Site Leased Workers from Aerotek, Bartech, Securitas Security and Rapid Global Business Systems, Inc. (RGBSI) Troy, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 30, 2009, applicable to workers of Delphi Corporation, Corporate Headquarters and Product & Service Solutions Division, Troy, Michigan. The notice was published in the Federal Register on February 23, 2009 (74 FR 8115). The certification was amended on April 3, 2009 to include on-site leased workers from Aerotek, Bartech and Securitas Security. The notice will be published soon in the Federal Register.

At the request of the State agency, the Department reviewed the certification for workers of the subject firm. The workers perform administrative and support functions for prototype automotive parts.

The intent of the Department's certification is to include all workers of the subject firm adversely affected by the shift in production of prototype automotive parts to Mexico.

New information submitted to the Department shows that workers leased from Rapid Global Business Systems, Inc. (RGBSI) were employed on-site at the Troy, Michigan location of Delphi Corporation, Corporate Headquarters and Product & Service Solutions Division. The Department has determined that these workers were sufficiently under the control of Delphi Corporation, Corporate Headquarters, and Product & Service Solutions Division to be considered leased workers.

Based on these findings, the Department is amending this certification to include workers leased from Rapid Global Business Systems, Inc. (RGBSI) working on-site at the Troy, Michigan location of the subject firm.

The amended notice applicable to TA-W-65,019 is hereby issued as follows:

All workers of Delphi Corporation, Corporate Headquarters and Product & Service Solutions Division, including on-site leased workers from Aerotek, Bartech, Securitas Security and Rapid Global Business Systems, Inc., Troy, Michigan, who became totally or partially separated from employment on or after January 27, 2008, through January 30, 2011, are eligible to apply for adjustment assistance under Section 223 of the Trade Act of 1974, and are also eligible to apply for alternative trade adjustment assistance under Section 246 of the Trade Act of 1974.

Signed at Washington, DC, this 9th day of April 2009.
Linda G. Poole,
Certifying Officer, Division of Trade Adjustment Assistance.

[FR Doc. E9-8700 Filed 4-15-09; 8:45 am]

BILLING CODE 4510-FN-P